NATIONAL AERONAUTICS AND SPACE ADMINISTRATION

[Notice (10-112)]

NASA Advisory Council; Planetary Science Subcommittee; Supporting Research and Technology Working Group; Meeting

AGENCY: National Aeronautics and Space Administration.

ACTION: Notice of Meeting.

SUMMARY: In accordance with the Federal Advisory Committee Act, Public Law 92-463, as amended, the National Aeronautics and Space Administration announces a meeting of the Supporting Research and Technology Working Group of the Planetary Science Subcommittee of the NASA Advisory Council.

DATED: Wednesday, October 13, 2010, 9 a.m.-3 p.m., Local Time.

ADDRESSES: NASA Headquarters, 300 E Street, SW., Washington, DC, Room 1Q39 (9 a.m.-3 p.m. EST).

FOR FURTHER INFORMATION CONTACT: Dr. Michael New, Planetary Science Division, National Aeronautics and Space Administration Headquarters, 300 E Street, SW., Washington, DC 20546, 202/358-1766; michael.h.new@nasa.gov.

SUPPLEMENTARY INFORMATION: The agenda topics for the meeting will include:

• Presentation of Working Group Process.

• Discussion of Role of NASA HQ Program Officers.

This meeting will be held in room 1Q39 on the 1st floor of NASA Headquarters located at 300 E Street, SW., Washington, DC 20546. All visitors will need to sign in and show valid government-issued picture identification such as driver's license or passport to enter NASA Headquarters. Foreign nationals attending this meeting will be required to provide a copy of their passport, visa, or green card in addition to providing the following information no less than 10 working days prior to the meeting: Full name; gender; date/place of birth; citizenship; visa/green card information (number, type, expiration date); passport information (number, country, expiration date); employer/affiliation information (name of institution, address, country, telephone); title/position of attendee. The meeting will also be available via teleconference and by Web Ex. Any interested person may call the USA toll free conference call number 877-915-2770, participant pass code 60186, to participate in this meeting by telephone. The Webex link is https://nasa.webex.com/, meeting number 991 907 278, and password R+AW0rk! (the fifth character is the number zero). For questions, please call Michael New at (202) 358-1766.

Dated: September 14, 2010.
P. Diane Rausch,
Advisory Committee Management Officer, National Aeronautics and Space Administration.

[FR Doc. 2010-23437 Filed 9-20-10; 8:45 am]

BILLING CODE 7510-13-P